DEPARTMENT OF HEALTH AND HUMAN SERVICES

Announcement of the Fourth Meeting of the 2025 Dietary Guidelines Advisory Committee

AGENCY: Office of Disease Prevention and Health Promotion, Department of Health and Human Services (HHS), Office of the Assistant Secretary for Health (OASH); Department of Agriculture (USDA), Food, Nutrition, and Consumer Services (FNCS).

ACTION: Notice.

SUMMARY: The Departments of Health and Human Services and Agriculture announce the fourth meeting of the 2025 Dietary Guidelines Advisory Committee (Committee). This meeting will be open to the public virtually.

DATES: The fourth Committee meeting will be held on January 19, 2024, from 8:30 a.m. to 3:00 p.m. Eastern Time.

ADDRESSES: The meeting will be accessible online via livestream and recorded for later viewing. Registrants will receive the livestream information prior to the meeting.

FOR FURTHER INFORMATION CONTACT: Designated Federal Officer, 2025 Dietary Guidelines Advisory Committee, Janet M. de Jesus, MS, RD; Office of Disease Prevention and Health Promotion, 1101 Wootton Parkway, Suite 420, Rockville, MD 20852; Phone: 240-453-8266; Email DietaryGuidelines@hhs.gov. Additional information is at DietaryGuidelines.gov.

SUPPLEMENTARY INFORMATION:

Authority and Purpose: Under section 301 of Public Law 101-445 (7 U.S.C. 5341, the National Nutrition Monitoring and Related Research Act of 1990, Title III), the Secretaries of HHS and USDA are directed to publish the Dietary Guidelines for Americans jointly at least every five years. See 88 FR 3423, January 19, 2023, for notice of the first meeting of the 2025 Dietary Guidelines Advisory Committee, the complete Authority and Purpose, and the Committee's Task. The 2025 Dietary Guidelines Advisory Committee is formed and governed under the provisions of the Federal Advisory Committee Act (FACA), Public Law 92-463, as amended (5 U.S.C., app).

Purpose of the Meeting: The Committee will meet to provide subcommittee updates, including presentations by each subcommittee, and deliberation by the full Committee regarding progress made since the third public meeting, including protocol development, evidence review and synthesis, draft conclusion statements, and plans for future Committee work.

Meeting Agendas: The agenda will be announced in advance of the meeting on DietaryGuidelines.gov.

Meeting Registration: This Committee meeting is open to the public. The meeting will be accessible online via livestream and recorded for later viewing. Registration is required for the livestream. To register, go to DietaryGuidelines.gov and click on the link for “Meeting Registration.”

Meeting materials for each meeting will be accessible at DietaryGuidelines.gov. Materials may be requested by email at DietaryGuidelines@hhs.gov.

Public Comments: A call for written public comment to the Committee opened on January 19, 2023 and will remain open throughout the Committee's deliberations. Written comments may be submitted at Regulations.gov (Document ID: HHS-OASH-2022-0021-0001).

Paul Reed,
Deputy Assistant Secretary for Health, Office of Disease Prevention and Health Promotion.

[FR Doc. 2023-27011 Filed 12-12-23; 8:45 am]

BILLING CODE 4150-32-P